NATIONAL SCIENCE FOUNDATION

Proposal Review Panel for Computing Communication Foundations; Notice of Meeting

In accordance with the Federal Advisory Committee Act (Pub. L. 92-463, as amended), the National Science Foundation announces the following meeting:

Name: Site Visit, Proposal Panel Review for Science and Technology Centers—Integrative Partnerships (#1192).

Date/Time: December 3, 2013, 6:30 p.m.-8:30 p.m.; December 4, 2013, 8:00 a.m.-8:00 p.m.; December 5, 2013, 8:30 a.m.-3:00 p.m.

Place: Purdue University, West Lafayette, IN.

Type of Meeting: Partial Closed.

Contact Person: John Cozzens, National Science Foundation, 4201 Wilson Boulevard, Room 1115, Arlington, VA 22230. Telephone: (703) 292-8910.

Purpose of Meeting: To assess the progress of the STC Award, “Emerging Frontiers of Science of Information”, and to provide advise and recommendations concerning further NSF support for the Center.

Agenda

Monday, December 3, 2012

6:30 p.m. to 8:30 p.m.: Closed. Site Team and NSF Staff meets to discuss Site Visit materials, review process and charge.

Tuesday, December 4, 2012

8:00 a.m. to 1:00 p.m.: Open. Presentations by Awardee Institution, faculty staff and students, to Site Team and NSF Staff. Discussions and question and answer sessions.

1:00 p.m.-8:00 p.m.: Closed. Draft report on education and research activities.

Thursday, December 5, 2012

8:30 a.m.-noon: Open. Response presentations by Site Team and NSF Staff Awardee Institution faculty staff to. Discussions and question and answer sessions.

Noon to 3:00 p.m.: Closed. Complete written site visit report with preliminary recommendations.

Reason For Closing: The proposals being reviewed include information of a proprietary or confidential nature, including technical information; financial data, such as salaries; and personal information concerning individuals associated with the proposals. These matters are exempt under 5 U.S.C. 552b(c), (4) and (6) of the Government in the Sunshine Act.

Dated: November 13, 2013.
Susanne Bolton,
Committee Management Officer.

[FR Doc. 2013-27545 Filed 11-15-13; 8:45 am]

BILLING CODE 7555-01-P